DEPARTMENT OF LABOR

Employment and Training Administration

[TA-W-82,884]

Central Credit Services, LLC, Formerly Known As Integrity Solutions Services, Inc., Decorah, IA; Amended Certification Regarding Eligibility To Apply for Worker Adjustment Assistance

In accordance with Section 223 of the Trade Act of 1974, as amended (“Act”), 19 U.S.C. 2273, the Department of Labor issued a Certification of Eligibility to Apply for Worker Adjustment Assistance on August 14, 2013, applicable to workers of Integrity Solutions Services, Inc., Decorah, Iowa. The Department's notice of determination was published in the Federal Register on September 3, 2013 (78 FR 54487).

At the request of Iowa Workforce Development, the Department reviewed the certification for workers of the subject firm. The workers were engaged in collections and customer services.

New information shows that as of December 29, 2014, the firm changed names to Central Credit Services, LLC. The intent of the Department's certification is to include all workers of the subject firm who were adversely affected by a shift in services of collections and customer services.

The amended notice applicable to TA-W-82,884 is hereby issued as follows:

All workers of Central Credit Services, LLC, formerly known as Integrity Solutions Services, Inc., Decorah, Iowa, who became totally or partially separated from who became totally or partially separated from employment on or after July 3, 2012, through August 14, 2015, and all workers in the group threatened with total or partial separation from employment on date of certification through two years from the date of certification, are eligible to apply for adjustment assistance under Chapter 2 of Title II of the Trade Act of 1974, as amended.

Signed at Washington, DC, this 2nd day of February, 2015.
Michael W. Jaffe,
Certifying Officer, Office of Trade Adjustment Assistance.

[FR Doc. 2015-03276 Filed 2-17-15; 8:45 am]

BILLING CODE 4510-FN-P